DEPARTMENT OF VETERANS AFFAIRS

38 CFR Part 21

RIN 2900-AM80

Education: Approval of Accredited Courses for VA Education Benefits

AGENCY: Department of Veterans Affairs.

ACTION: Final rule.

SUMMARY: This document amends regulations governing aspects of educational assistance programs administered by the Department of Veterans Affairs (VA) to remove a requirement that had mirrored a former statutory requirement. This final rule reflects a statutory amendment that removed the statutory requirement that educational institutions offering accredited courses must notify VA and the student using VA education benefits of the amount of credit granted for the student's prior education and training.

DATES: Effective Date: This final rule is effective January 7, 2008.

FOR FURTHER INFORMATION CONTACT: Devon E. Seibert, Management and Program Analyst, Education Service, Veterans Benefits Administration, Department of Veterans Affairs (225C), 810 Vermont Avenue, NW., Washington, DC 20420, (202) 461-9837. (This is not a toll-free telephone number.)

SUPPLEMENTARY INFORMATION: This document amends VA regulations set forth in 38 CFR part 21 concerning approval criteria for payment under education programs administered by VA for accredited courses of education. Specifically, it removes a requirement from 38 CFR 21.4253(d)(3) that had mirrored a statutory requirement. On October 9, 1996, section 103(c) of the Veterans' Benefits Improvements Act of 1996 (Pub. L. 104-275) removed the requirement in 38 U.S.C. 3675(b) that had required institutions offering accredited courses to notify VA and the student using VA education benefits of the amount of credit granted for a student's prior education and training.

A similar statutory requirement, in 38 U.S.C. 3676(c)(4), imposing the same reporting requirement for institutions offering non-accredited courses, was not removed by Pub. L. 104-275 and still remains in effect. When Pub. L. 104-275 was enacted, VA had no administratively efficient way to distinguish between the enrollment certifications submitted by institutions offering accredited courses and non-accredited courses. Consequently, retaining in VA regulations the same reporting requirement for educational institutions offering accredited or non-accredited courses assisted VA in being able to monitor compliance by institutions offering non-accredited courses.

However, distinguishing between accredited and non-accredited course enrollments is now administratively feasible for VA. Because we now have the means to make this distinction, we are amending § 21.4253(d)(3) to remove the notification requirements for institutions offering accredited courses.

Administrative Procedure Act

This document is being published without regard to the notice-and-comment and delayed-effective-date provisions of 5 U.S.C. 553(b) and (d) since it merely changes an interpretive rule to reflect a statutory amendment, by removing language that had mirrored the former statutory requirement.

Paperwork Reduction Act of 1995

This final rule contains no provisions constituting a new collection of information under the Paperwork Reduction Act of 1995 (44 U.S.C. 3501-3521).

Unfunded Mandates

The Unfunded Mandates Reform Act of 1995 requires, at 2 U.S.C. 1532, that agencies prepare an assessment of anticipated costs and benefits before issuing any rule that may result in an expenditure by State, local, and tribal governments, in the aggregate, or by the private sector, of $100 million or more (adjusted annually for inflation) in any given year. This final rule will have no such effect on State, local, and tribal governments, or on the private sector.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by OMB unless OMB waives such review, as any regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this final rule have been examined and it has been determined that it is not a significant regulatory action under the Executive Order because this rule merely reflects a statutory amendment by removing the regulatory requirement that had mirrored the language of the former statutory requirement.

Regulatory Flexibility Act

The initial and final regulatory flexibility analysis requirements of sections 603 and 604 of the Regulatory Flexibility Act, 5 U.S.C. 601-612, are not applicable to this rule because a notice of proposed rulemaking is not required for this rule. Even so, the Secretary of Veterans Affairs hereby certifies that this final rule will not have a significant economic impact on a substantial number of small entities as they are defined in the Regulatory Flexibility Act. Any impact on the educational institutions affected by the rule that may be small entities would be minor for at least the reason that the rule merely removes from the regulations a requirement for reporting information that would still be required to be maintained by such educational institutions. Under 38 U.S.C. 3675(b), educational institutions offering accredited courses are still required to maintain written records of credit for prior education given to students using VA education benefits, with the training period shortened proportionately. This final rule is therefore also exempt pursuant to 5 U.S.C. 605(b) from the regulatory flexibility analysis requirements of sections 603 and 604.

Catalog of Federal Domestic Assistance

The Catalog of Federal Domestic Assistance numbers and titles for the programs affected by this rule are 64.120, Post-Vietnam Era Veterans' Educational Assistance; 64.124, All-Volunteer Force Educational Assistance; and 64.117, Survivors and Dependents Educational Assistance.

List of Subjects in 38 CFR Part 21

Administrative practice and procedure, Armed forces, Civil rights, Claims, Colleges and universities, Conflict of interests, Education, Employment, Grant programs—education, Grant programs—veterans, Health care, Loan programs—education, Loan programs—veterans, Manpower training programs, Reporting and recordkeeping requirements, Schools, Travel and transportation expenses, Veterans, Vocational education, Vocational rehabilitation.

Approved: November 16, 2007.
Gordon H. Mansfield,
Acting Secretary of Veterans Affairs.

For the reasons set out in the preamble, the Department of Veterans Affairs amends 38 CFR part 21 (subpart D) as follows:

PART 21—[AMENDED]

Subpart D—Administration of Educational Assistance Programs

1. The authority citation for part 21, subpart D continues to read as follows:

Authority: 10 U.S.C. 2141 note, ch. 1606; 38 U.S.C. 501(a), chs. 30, 32, 34, 35, 36, and as noted in specific sections.

§ 21.4253 [Amended]

2. Amend § 21.4253(d)(3) by removing “, and the person and the Department of Veterans Affairs so notified”.

[FR Doc. E7-25658 Filed 1-4-08; 8:45 am]

BILLING CODE 8320-01-P